DEPARTMENT OF THE INTERIOR

National Park Service

[NPS-WASO-NAGPRA-NPS0027196; PCU00RP14.R50000-PPWOCRDN0]

Notice of Inventory Completion: U.S. Department of the Interior, Bureau of Indian Affairs, Washington, DC

AGENCY: National Park Service, Interior.

ACTION: Notice.

SUMMARY: The U.S. Department of the Interior, Bureau of Indian Affairs, has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Bureau of Indian Affairs. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Bureau of Indian Affairs at the address in this notice by March 11, 2019.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC. The human remains and associated funerary objects were removed from sites on and around Black Mesa and Klethla Valley in Coconino and Navajo Counties, AZ.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the U.S. Department of the Interior, Bureau of Indian Affairs professional staff in consultation with representatives of the Hopi Tribe of Arizona; Navajo Nation, Arizona, New Mexico & Utah; and the Zuni Tribe of the Zuni Reservation, New Mexico.

History and Description of the Remains

From 1967 to 1983, the Bureau of Indian Affairs (BIA) issued Antiquities Act permits authorizing excavations in the Black Mesa region of Arizona. Black Mesa, an area of roughly 49,300 hectares, was leased to Peabody Coal Company (now Peabody Energy) by the Hopi Tribe of Arizona and Navajo Nation, Arizona, New Mexico & Utah for the purpose of mining coal deposits. The Black Mesa Archaeological Project (BMAP), conducted by staff and students from Prescott College and later, Southern Illinois University at Carbondale (SIU), gathered archeological and anthropological data on Black Mesa. In 1974, Prescott College declared bankruptcy and closed. In 1976, after being housed at Fort Lewis College in Durango, CO, for one year, the BMAP collections and records were transferred to SIU. In or about 1979, SIU entered into a long-term loan agreement with Debra Martin for the human remains from BMAP. Dr. Martin transported the human remains to the University of Massachusetts, Amherst, and in or about 1986, Dr. Martin moved the human remains to Hampshire College. In or about 2006, Dr. Martin, with approval from SIU, relocated the human remains to the University of Nevada, Las Vegas. BIA was never consulted nor advised of any of these loans or moves. The associated funerary objects remained at SIU. In March and May 2018, the BIA, in consultation with the Hopi Tribe of Arizona and Navajo Nation, Arizona, New Mexico & Utah, authorized the physical transfer of all BMAP human remains and associated funerary objects to the Museum of Northern Arizona (MNA) in Flagstaff, AZ. The human remains were transferred to MNA in May 2018, and the associated funerary objects were transferred from SIU to MNA in October 2018.

In 1960 and 1971-72, additional excavations were conducted under Antiquities Act permits issued by the BIA on ten sites in Klethla Valley, AZ. One site was excavated in 1960 as part of the construction of a highway. Nine sites were excavated in 1971 and 1972 within the right-of-way corridor for the Black Mesa and Lake Powell Railroad. Human remains and associated funerary objects were removed and have been housed at MNA since their removal.

From 1960 to 1983, human remains representing, at minimum, 341 individuals were removed from numerous sites on Black Mesa and in Klethla Valley in Coconino and Navajo Counties, AZ. No known individuals were identified. The 10,889 associated funerary objects include ceramic vessels, beads, pollen and soil samples, sherds, lithics, plant and wood materials, groundstone, shells, and faunal remains. A complete, detailed inventory is on file with the National NAGPRA Program and available upon written request to the BIA.

Determinations Made by the Bureau of Indian Affairs

Officials of the Bureau of Indian Affairs have determined that:

• Pursuant to 25 U.S.C. 3001(9), the human remains described in this notice are Native American based on studies conducted by physical anthropologists.

• Pursuant to 25 U.S.C. 3001(9), the human remains described in this notice represent the physical remains of 341 individuals of Native American ancestry.

• Pursuant to 25 U.S.C. 3001(3)(A), the 10,889 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 25 U.S.C. 3001 (15), the land from which the Native American human remains and associated funerary objects were removed is the tribal land of the Hopi Tribe of Arizona and Navajo Nation, Arizona, New Mexico & Utah.

• Pursuant to 43 CFR 10.11(c)(1), the disposition of the human remains and associated funerary objects may be to the Hopi Tribe of Arizona and Navajo Nation, Arizona, New Mexico & Utah.

Additional Requestors and Disposition

Representatives of any Indian Tribe or Native Hawaiian organization not identified in this notice that wish to request transfer of control of these human remains and associated funerary objects should submit a written request with information in support of the request to Anna Pardo, Museum Program Manager/NAGPRA Coordinator, U.S. Department of the Interior, Bureau of Indian Affairs, 12220 Sunrise Valley Drive, Room 6084, Reston, VA 20191, telephone (703) 390-6343, email Anna.Pardo@bia.gov, by March 11, 2019. After that date, if no additional requestors have come forward, transfer of control of the human remains and associated funerary objects to the Hopi Tribe of Arizona and Navajo Nation, Arizona, New Mexico & Utah, may proceed.

The BIA is responsible for notifying the Hopi Tribe of Arizona; Navajo Nation, Arizona, New Mexico & Utah; and the Zuni Tribe of the Zuni Reservation, New Mexico, that this notice has been published.

Dated: December 17, 2018.
Melanie O'Brien,
Manager, National NAGPRA Program.

[FR Doc. 2019-01623 Filed 2-7-19; 8:45 am]

BILLING CODE 4312-52-P